DEPARTMENT OF COMMERCE

National Oceanic and Atmospheric Administration

[I.D. 121905E]

Pacific Fishery Management Council; Public Meetings/Workshop

AGENCY: National Marine Fisheries Service (NMFS), National Oceanic and Atmospheric Administration (NOAA), Commerce.

ACTION: Notice of public meeting.

SUMMARY: The Pacific Fishery Management Council (Council) will hold a public workshop to review and critique its groundfish stock assessment process in 2005.

DATES: The Groundfish Stock Assessment Process Review Workshop will commence at 8 a.m., Friday, January 13, 2006, and continue until business for the day is completed.

ADDRESSES: The Groundfish Stock Assessment Process Review Workshop meeting will be held at the Sheraton Portland Airport Hotel, Columbian A Room, 8235 NE Airport Way, Portland, OR 97220; telephone: (503) 281-2500.

Council address: Pacific Fishery Management Council, 7700 N.E. Ambassador Place, Suite 200, Portland, OR 97220-1384; telephone: (503) 820-2280.

FOR FURTHER INFORMATION CONTACT: Mr. John DeVore, Pacific Fishery Management Council; telephone: (503) 820-2280.

SUPPLEMENTARY INFORMATION: The purpose of the Groundfish Stock Assessment Process Review Workshop is for participants in the Council's 2005 stock assessment process to consider the procedures used in 2005 to assess and update groundfish stock abundance and develop recommendations for improving the process for future assessments. No management actions will be decided in this workshop. Any recommendations developed at the workshop will be submitted for consideration by the Council at its March meeting in Seattle, WA.

Although non-emergency issues not identified in the workshop agenda may come before the workshop participants for discussion, those issues may not be the subject of formal action during this workshop. Formal action at the workshop will be restricted to those issues specifically listed in this notice and any issues arising after publication of this notice that require emergency action under Section 305(c) of the Magnuson-Stevens Fishery Conservation and Management Act, provided the public has been notified of the workshop participants' intent to take final action to address the emergency.

Special Accommodations

This workshop is physically accessible to people with disabilities. Requests for sign language interpretation or other auxiliary aids should be directed to Ms. Carolyn Porter at (503) 820-2280 at least 5 days prior to the workshop date.

Dated: December 21, 2005.
Emily Menashes,
Acting Director, Office of Sustainable Fisheries, National Marine Fisheries Service.

[FR Doc. E5-7851 Filed 12-27-05; 8:45 am]

BILLING CODE 3510-22-S